ENVIRONMENTAL PROTECTION AGENCY

[OPP-2002-0124; FRL-7185-3]

Carbofuran; Receipt of Application for Emergency Exemption, Solicitation of Public Comment

AGENCY: Environmental Protection Agency (EPA).

ACTION: Notice.

SUMMARY: EPA has received a specific exemption request from the Louisiana Department of Agriculture and Forestry to use the pesticide carbofuran (CAS No. 1563-66-2) to treat up to 100,000 acres of rice to control the rice weevil. Because this application for an emergency exemption program involves the use of a chemical which has been the subject of a Special Review by EPA under 40 CFR part 154, EPA is soliciting public comment on the exemption.

DATES: Comments, identified by docket ID number OPP-2002-0124, must be received on or before July 2, 2002.

ADDRESSES: Comments may be submitted by mail, electronically, or in person. Please follow the detailed instructions for each method as provided in Unit I. of the SUPPLEMENTARY INFORMATION. To ensure proper receipt by EPA, it is imperative that you identify docket ID number OPP-2002-0124 in the subject line on the first page of your response.

FOR FURTHER INFORMATION CONTACT: Dan Rosenblatt, Registration Division (7505C), Office of Pesticide Programs, Environmental Protection Agency, 1200 Pennsylvania Ave., NW., Washington, DC 20460; telephone number: (703) 308-9366; fax number: (703) 308-5433; e-mail address: rosenblatt.dan@epa.gov.

SUPPLEMENTARY INFORMATION:

I. General Information

A. Does this Action Apply to Me?

You may be potentially affected by this action if you petition EPA for emergency exemption under section 18 of FIFRA. Potentially affected categories and entities may include, but are not limited to:

Categories | NAICS codes | Examples of potentially affected entities
State government | 9241 | State agencies that petition EPA for section 18 pesticide exemption

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions in Unit II. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket ID number OPP-2002-0124. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0124 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described in Unit I.C.3. Do not submit any information electronically that you consider to be CBI. Avoid the use of special characters and any form of encryption. Electronic submissions will be accepted in WordPerfect 6.1/8.0 or ASCII file format. All comments in electronic form must be identified by docket ID number OPP-2002-0124. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice.

7. Make sure to submit your comments by the deadline in this document.

8. To ensure proper receipt by EPA, be sure to identify the docket ID number assigned to this action in the subject line on the first page of your response. You may also provide the name, date, and Federal Register citation.

II. Background

A. What Action is the Agency Taking?

Under section 18 of the Federal Insecticide, Fungicide, and Rodenticide Act (FIFRA) (7 U.S.C. 136p), at the discretion of the Administrator, a Federal or State agency may be exempted from any provision of FIFRA if the Administrator determines that emergency conditions exist which require the exemption. Louisiana Department of Agriculture and Forestry has requested the Administrator to issue a specific exemption for the use of carbofuran on rice to control the rice weevil. Information in accordance with 40 CFR part 166 was submitted as part of this request.

In the emergency exemption application, the Applicant asserts that rice producers in Louisiana do not have adequate alternatives to control the rice weevil and that carbofuran is the only material that can be applied at this point in the growing season that will control this pest. The rice weevil has historically been an important pest for rice producers. The Applicant estimates that yield losses of 20 to 40% will be experienced if this pest is not controlled by the requested emergency program. The Applicant asserts that there are weaknesses and limitations for the alternative control measures that require use of carbofuran this growing season. In the past, granular carbofuran was commonly applied to control this pest in water-seeded rice. However, it is no longer registered for this use. The use of granular carbofuran, generally, was canceled following an agreement between FMC Corporation, the chemical's manufacturer, and EPA in 1991. For rice, use was permitted to continue until August 1999, after which distribution, sale, and use of existing stocks labeled for rice were not permitted.

Since the cancellation of granular carbofuran, EPA has registered alternative chemicals for insect control on rice. Notably, an alternative rice weevil product called fipronil (trade name, Icon) was approved by EPA in 1998. Fipronil is a contact and ingestion insecticide that can be applied early in the growing season to control rice weevils.

The main reason that the Applicant believes this exemption is warranted is the unexpected and novel efficacy failure of fipronil in many fields that were treated this year with that chemical. The efficacy issues connected to fipronil's performance this year in rice are believed to be connected with high levels of hydrogen sulfide gas which are building up in fields due to the presence of straw and stubble from the previous year's rice crop. The breakdown of this organic material under anaerobic conditions (this involves water-seeded rice) is believed to interfere with the performance of fipronil. The high level of organic material in the fields is connected to reduced or no-till soil management practices.

The Applicant also indicated that weather and equipment issues have prevented growers from using other alternative controls this year. Total yield loss estimates projected by the Applicant range from $6.6 to $13.2 million.

The Applicant proposed to make no more than one application of a granular carbofuran product that contains 3% active ingredient to 100,000 acres of rice in Louisiana. The proposed application rate called for 15 to 20 pounds of product per acre (or 0.45 to 0.60 pound active ingredient per acre). Treatments may occur following permanent flood of the rice fields, but, at minimum, 60 days prior to harvest.

Because EPA received additional information from the Applicant in the days following the receipt of this request which heightened the urgency of this emergency exemption application from the standpoint of the growers, the Agency has already authorized a limited number of rice producers who are currently experiencing a high level of pest infestation as a result of efficacy failure following treatments of Icon (fipronil) to make treatments under this exemption. Specifically, on June 19, 2002, EPA issued a section 18 authorization which permits 6,000 pounds of carbofuran active ingredient to be applied to 10,000 acres of rice. The authorization limits treatments to those fields which were first treated with fipronil, but where, nonetheless, high levels of pest problems now exist. Information on this exemption request, including the June 19 authorization, is available at the Docket. Since granular carbofuran is generally cancelled at this time, another important factor that impacts the scope of this exemption is the level of available product. At this time, existing stocks of granular carbofuran could permit treatment to 2,500 acres of rice. New product would have to be manufactured for treatment of the additional 7,500 acres. Carbofuran is believed to be the only alternative chemical means of control at this point in the growing season.

EPA's decision to permit treatments of carbofuran for this use relates only to growers able to certify that they experienced performance failure connected to the use of fipronil. In addition, EPA anticipates that soil management practices will be adopted that diminish the likelihood of hydrogen sulfide build up in future growing seasons. Therefore, EPA does not anticipate that this emergency will be repeated.

EPA has decided to open a shortened comment period and solicit input and comments from the public for a 5 day period. In general, the length of a comment period on an emergency exemption application is 15 days. However, EPA is shortening this comment period to five days due to the limited time available to consider this request in light of the typical harvest period for rice in Louisiana and also a label provision for this use that requires a 60 day pre-harvest interval. Because of these factors, EPA determined that a 15 day comment period was not possible for this request.

The Agency is specifically seeking input from the public and stakeholders on the scope and use terms of this exemption connected to the acres that might be treated but for which there is currently no available product. In particular, due to the product availability issues mentioned above, a further determination related to the remaining 7,500 acres is needed. The public comments will help EPA determine whether the exemption should be revised to limit it to the 2,500 acres or maintained up to the 10,000 acre limit.

In order to obtain the greatest amount of input from this shortened comment period, EPA is directly contacting several key affected stakeholders in advance of this Federal Register publication. In addition, EPA is preparing a general notification plan to ensure that stakeholders are informed about this solicitation for comments.

The Agency will review and consider all comments received during the comment period in determining whether to maintain the exemption as granted on June 19, 2002 or modify the specific exemption such that use is limited to the 2,500 acres currently being treated with available product.

List of Subjects

Environmental protection, Pesticides and pests.

Dated: June 24, 2002.
Debra Edwards,
Acting Director, Registration Division, Office of Pesticide Programs.

[FR Doc. 02-16265 Filed 6-24-02; 3:07 pm]

BILLING CODE 6560-50-S